DEPARTMENT OF DEFENSE

Department of the Army, Corps of Engineers

Proposals by Non-Federal Interests, for Feasibility Studies and for Modifications to an Authorized Water Resources Development Project or Feasibility Study, for Inclusion in the Annual Report to Congress on Future Water Resources Development

AGENCY: U.S. Army Corps of Engineers, DoD.

ACTION: Notice.

SUMMARY: Section 7001 of Water Resources Reform and Development Act (WRRDA) 2014 requires that the Secretary of the Army to annually submit to the Congress a report (Annual Report) that identifies feasibility reports, proposed feasibility studies submitted by non-Federal interests, and proposed modifications to an authorized water resources development project or feasibility study that meet certain criteria. The Annual Report is to be based, in part, upon requests for proposals submitted by non-Federal interests.

DATES: Proposals must be submitted online by September 19, 2016.

ADDRESSES: Submit proposals online at: http://www.usace.army.mil/Missions/CivilWorks/ProjectPlanning/WRRDA7001Proposals.aspx. If a different method of submission is required, use the further information below to arrange an alternative submission process.

FOR FURTHER INFORMATION CONTACT: Send an email to the help desk at WRRDA7001Proposal@usace.army.mil or call Lisa Kiefel, Planning and Policy Division, Headquarters, USACE, Washington, DC at 202-761-0626.

SUPPLEMENTARY INFORMATION: Section 7001 of WRRDA 2014 requires the publication of a notice in the Federal Register to request proposals by non-Federal interests for feasibility studies and modifications to an authorized USACE water resources development project or feasibility study. Project feasibility reports that have successfully completed Executive Branch review, but have not been authorized will be included in the Annual Report table by the Secretary of the Army and these proposals do not need to be submitted in response to this notice.

Proposals by non-Federal interests must be entered online and require the following information:

1. The name of all non-Federal interests planning to act as the sponsor, including any non-Federal interest that has contributed to or is expected to contribute toward the non-Federal share of the proposed feasibility study or modification.

2. State if this proposal is for a feasibility study or a modification to an authorized USACE water resources development project or feasibility study and, if a modification, specify the authorized water resources development project or study that is proposed for modification.

3. State the specific project purpose(s) of the proposed study or modification.

4. Provide an estimate, to the extent practicable, of the total cost, and the Federal and non-Federal share of those costs, of the proposed study and, separately, an estimate of the cost of construction or modification.

5. Describe, to the extent applicable and practicable, an estimate of the anticipated monetary and non-monetary benefits of the proposal with regard to benefits to the protection of human life and property; improvement to transportation; the national economy; the environment; or the national security interests of the United States.

6. Describe if local support exists for the proposal.

7. State if the non-Federal interest has the financial ability to provide for the required cost share, reference ER 1105-2-100.

8. Upload a letter or statement of support from each associated non-Federal interest.

All provided information may be included in the Annual Report to Congress on Future Water Resources Development. Therefore, information that is Confidential Business Information; information that should not be disclosed because of statutory restrictions; or other information that a non-Federal interest would not want to appear in the Annual Report should not be included.

Process: Proposals received within the time frame set forth in this notice will be reviewed by the Chief of Engineers and Secretary of the Army and will be presented in one of two tables. The first table will be in the Annual Report itself, and the second table will be in an appendix. To be included in the Annual Report table, the proposals must meet the following criteria:

1. Are related to the missions and authorities of the USACE;

Involves a proposed or existing USACE water resources project or effort whose primary purpose is flood and storm damage reduction, commercial navigation, or aquatic ecosystem restoration. Following long-standing USACE practice, related proposals such as for recreation, hydropower, or water supply, are eligible for inclusion if undertaken in conjunction with such a project or effort.

2. Require specific congressional authorization, including by an Act of Congress;

This is envisioned to comprise the following cases:

a. SEEKING CONSTRUCTION AUTHORIZATION.

• Signed Chief's Reports or non-Federal feasibility reports submitted to the Secretary of the Army under Section 203 of WRDA 1986, as amended, under review,

• Signed Chief's Report or non-Federal feasibility reports not yet submitted to the Secretary of the Army under Section 203 of WRDA 1986, as amended,

• Ongoing feasibility studies that are expected to result in a Chief's Report, and

• Proposed modifications to authorized water resources development projects requested by non-Federal interests through the Section 7001 of WRRDA 2014 process.

b. SEEKING STUDY AUTHORIZATION.

• New feasibility studies proposed by non-Federal interests through the Section 7001 of WRRDA 2014 process will be evaluated by the USACE to determine whether or not there is existing study authority, and

• Proposed modifications to studies requested by non-Federal interests through the Section 7001 of WRRDA 2014 process.

c. The following cases are NOT CONSIDERED ELIGIBLE to be included in the Annual Report and will be included in the appendix for transparency:

• Proposals for modifications to non-Federal activities where USACE has provided previous technical assistance. Examples of this type of work include the various environmental infrastructure programs. Authorization to provide technical assistance does not provide authorization of a water resources development project.

• Proposals for construction of a new water resources development project that is not the subject of a currently authorized USACE project or a complete or ongoing feasibility study.

• Proposals that do not include a request for a potential future water resources development project through completed feasibility reports, proposed feasibility studies, and proposed modifications to authorized projects or studies.

d. For proposals seeking new construction authorization, CONSTRUCTION ON ANY PROJECT IN THE ANNUAL REPORT TABLE CANNOT PROCEED UNTIL Congress authorizes and funds the project.

3. Have not been congressionally authorized;

4. Have not been included in the Annual Report table of any previous Annual Report to Congress on Future Water Resources Development; and

• If the proposal was included in the Annual Report table in a previous Report to Congress on Future Water Resources Development, then the proposal is not eligible to be included in the Annual Report table. If a proposal was previously included in an appendix it may be re-submitted.

5. If authorized, could be carried out by the USACE.

• Whether following the USACE Chief's Report process or Section 7001 of WRRDA 2014, a proposal for a project or a project modification would need a current decision document to provide updated information on the scope of the potential project and demonstrate a clear Federal interest. This determination would include an assessment of whether the proposal is:

—Technically sound, economically viable and environmentally acceptable.

—Compliant with environmental and other laws including but not limited to National Environmental Policy Act, Endangered Species Act, Coastal Zone Management Act, and the National Historic Preservation Act.

—Compliant with statutes and regulations related to water resources development including various water resources provisions related to the authorized cost of projects, level of detail, separable elements, fish and wildlife mitigation, project justification, matters to be addressed in planning, and the 1958 Water Supply Act.

Feasibility study proposals submitted by non-Federal interests are for the study only. If Congressional authorization of a feasibility study results from inclusion in the Annual Report, it is anticipated that such authorization would be for the study not for construction. Once a decision document is completed in accordance with Executive Branch policies and procedures, the Secretary will determine whether to recommend the project for authorization.

Section 902 of WRDA 1986 establishes a maximum authorized cost for projects (902 limit). A Post Authorization Change Report (PACR) is required to be completed to support potential modifications, updates to project costs, and an increase to the 902 limit. Authority to undertake a 902 study is inherent in the project authority, so no authority is required to proceed with the study. Since these PACRs support project modifications, they may be considered for inclusion in the Annual Report if a report's recommendation requires Congressional authorization.

The Secretary shall include in the Annual Report to Congress on Future Water Resources Development a certification stating that each feasibility report, proposed feasibility study, and proposed modification to an authorized water resources development project or feasibility study included in the Annual Report meets the criteria established in Section 7001 of WRRDA 2014.

Please contact the appropriate district office or use the contact information above for assistance in researching and identifying existing authorizations and existing USACE decision documents. Those proposals that do not meet the criteria will be included in an appendix table included in the Annual Report to Congress on Future Water Resources Development. Proposals in the appendix table will include a description of why those proposals did not meet the criteria.

Dated: May 6, 2016.
Steven L. Stockton,
Director of Civil Works.

[FR Doc. 2016-11944 Filed 5-19-16; 8:45 am]

BILLING CODE 3710-58-P